DEPARTMENT OF HEALTH AND HUMAN SERVICES

National Institutes of Health

National Institute of Environmental Health Sciences; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Environmental Health Sciences Special Emphasis Panel; Maintain and Enrich Resource Infrastructure for Existing Environmental Epidemiology Cohorts.

Date: March 6, 2019.

Time: 8:15 a.m. to 3:30 p.m.

Agenda: To review and evaluate grant applications.

Place: Residence Inn Capital View Hotel, 2850 South Potomac Avenue, Arlington, VA 22202.

Contact Person: Linda K. Bass, Ph.D., Scientific Review Officer, Scientific Review Branch, Division of Extramural Research and Training, Nat. Institute Environmental Health Sciences, Research Triangle Park, NC 27709, (919) 541-1307, bass@niehs.nih.gov.

Name of Committee: National Institute of Environmental Health Sciences Special Emphasis Panel; Maintain and Enrich Resource Infrastructure for Existing Environmental Epidemiology Cohorts R24.

Date: March 6, 2019.

Time: 3:30 p.m. to 4:00 p.m.

Agenda: To review and evaluate grant applications.

Place: Residence Inn Capital View, 2850 South Potomac Avenue, Arlington, VA 22202.

Contact Person: Varsha Shukla, Ph.D., Scientific Review Officer, Scientific Review Branch, Division of Extramural Research and Training, Nat. Institute Environmental Health Sciences, Research Triangle Park, NC 27709, (984) 287-3288, varsha.shukla@nih.gov.

Name of Committee: National Institute of Environmental Health Sciences Special Emphasis Panel; Human Health Exposure Analysis Resource: Coordinating Center.

Date: March 6, 2019.

Time: 4:30 p.m. to 6:30 p.m.

Agenda: To review and evaluate grant applications.

Place: Residence Inn Capital View Hotel, 2850 South Potomac Avenue, Arlington, VA 22202.

Contact Person: Linda K. Bass, Ph.D., Scientific Review Officer, Scientific Review Branch, Division of Extramural Research and Training, Nat. Institute Environmental Health Sciences, Research Triangle Park, NC 27709, (919) 541-1307, bass@niehs.nih.gov.

Name of Committee: National Institute of Environmental Health Sciences Special Emphasis Panel; Human Health Exposure Analysis Resource: Data Repository Center.

Date: March 7, 2019.

Time: 8:00 a.m. to 11:00 p.m.

Agenda: To review and evaluate grant applications.

Place: Residence Inn Capital View Hotel, 2850 South Potomac Avenue, Arlington, VA 22202.

Contact Person: Alfonso R. Latoni, Ph.D., Scientific Review Branch, Division of Extramural Research and Training, National Institute of Environmental Health Sciences, Research Triangle Park, NC 27709, 919-541-7571, alfonso.latoni@nih.gov.

Name of Committee: National Institute of Environmental Health Sciences Special Emphasis Panel; Human Health Exposure Analysis Resource: Targeted Exposure Analysis Laboratories.

Date: March 7-8, 2019.

Time: 12:00 p.m. to 11:00 a.m.

Agenda: To review and evaluate grant applications.

Place: Residence Inn Capital View Hotel, 2850 South Potomac Avenue, Arlington, VA 22202.

Contact Person: Leroy Worth, Ph.D., Scientific Review Officer, Scientific Review Branch, Division of Extramural Research and Training, Nat. Institute of Environmental Health, Research Triangle Park, NC 27709, (919) 541-0670, worth@niehs.nih.gov.

Name of Committee: National Institute of Environmental Health Sciences Special Emphasis Panel; Human Health Exposure Analysis Resource: UnTargeted Exposure Analysis Laboratories.

Date: March 8, 2019.

Time: 12:00 p.m. to 6:00 p.m.

Agenda: To review and evaluate grant applications.

Place: Residence Inn Capital View Hotel, 2850 South Potomac Avenue, Arlington, VA 22202.

Contact Person: Leroy Worth, Ph.D., Scientific Review Officer, Scientific Review Branch, Division of Extramural Research and Training, Nat. Institute of Environmental Health Sciences, Research Triangle Park, NC 27709, (919) 541-0670, worth@niehs.nih.gov.

Name of Committee: National Institute of Environmental Health Sciences Special Emphasis Panel; Human Health Exposure Analysis Resource: Environmental Monitoring Laboratories U2C.

Date: March 9, 2019.

Time: 8:00 a.m. to 12:00 p.m.

Agenda: To review and evaluate grant applications.

Place: Residence Inn Capital View Hotel, 2850 South Potomac Avenue, Arlington, VA 22202.

Contact Person: Varsha Shukla, Ph.D., Scientific Review Officer, Scientific Review Branch, Division of Extramural Research and Training, Nat. Institute Environmental Health Sciences, Research Triangle Park, NC 27709, (984) 287-3288, varsha.shukla@nih.gov.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: February 2, 2019.
Natasha M. Copeland,
Program Analyst, Office of Federal Advisory Committee Policy.

[FR Doc. 2019-01456 Filed 2-6-19; 8:45 am]

BILLING CODE 4140-01-P